DEPARTMENT OF AGRICULTURE

Animal and Plant Health Inspection Service

[Docket No. APHIS-2023-0044]

Addition of the Republic of Ecuador and the Republic of Peru to the List of Regions Affected With Highly Pathogenic Avian Influenza

AGENCY: Animal and Plant Health Inspection Service, USDA.

ACTION: Notice.

SUMMARY: We are advising the public that we added the Republic of Ecuador and the Republic of Peru to the list of regions that the Animal and Plant Health Inspection Service considers to be affected by highly pathogenic avian influenza (HPAI). These actions follow our imposition of HPAI-related restrictions on avian commodities originating from or transiting the Republic of Ecuador and the Republic of Peru, as a result of the confirmation of HPAI in these countries.

DATES: The Republic of Ecuador and the Republic of Peru were added to the list of regions APHIS considers to be affected with HPAI, effective respectively on December 3, 2022, and December 12, 2022.

FOR FURTHER INFORMATION CONTACT: Dr. La'Toya Lane, APHIS Veterinary Services, Regionalization Evaluation Services, 920 Main Campus Drive, Suite 300, Raleigh, NC 27606; phone: (301) 550-1671; email: AskRegionalization@usda.gov.

SUPPLEMENTARY INFORMATION: The regulations in 9 CFR part 94 (referred to below as the regulations) govern the importation of certain animals and animal products into the United States to prevent the introduction of various animal diseases, including Newcastle disease and highly pathogenic avian influenza (HPAI). The regulations prohibit or restrict the importation of live poultry, poultry meat, and other poultry products from regions where these diseases are considered to exist.

Section 94.6 of the regulations contains requirements governing the importation into the United States of carcasses, meat, parts or products of carcasses, and eggs (other than hatching eggs) of poultry, game birds, or other birds from regions of the world where HPAI exists or is reasonably believed to exist. HPAI is an extremely infectious and potentially fatal form of avian influenza in birds and poultry that, once established, can spread rapidly from flock to flock. The Animal and Plant Health Inspection Service (APHIS) maintains a list of restricted regions it considers affected with HPAI of any subtype on the APHIS website at https://www.aphis.usda.gov/aphis/ourfocus/animalhealth/animal-and-animal-product-import-information/animal-health-status-of-regions.

APHIS receives notice of HPAI outbreaks from veterinary officials of the exporting country, from the World Organization for Animal Health (WOAH),¹ or from other sources the Administrator determines to be reliable.

¹ The World Organization for Animal Health internationally follows a British English spelling of “organisation' in its name; also, it was formerly the Office International des Epizooties, or OIE, but on May 28, 2022, the Organization announced that the acronym was changed from OIE to WOAH.

On November 28, 2022, the veterinary authorities of the Republic of Ecuador reported to the WOAH the occurrence of HPAI in that country. On December 3, 2022, after confirming that HPAI occurred in commercial birds and poultry, APHIS added the Republic of Ecuador to the list of regions where HPAI exists. On that same day, APHIS issued an import alert notifying stakeholders that APHIS imposed import restrictions on poultry, commercial birds, ratites, avian hatching eggs, unprocessed avian products and byproducts, and certain fresh poultry commodities from the Republic of Ecuador to mitigate risk of HPAI introduction into the United States.

On December 2, 2022, the veterinary authorities of the Republic of Peru reported to the WOAH the occurrence of HPAI in that country. On December 12, 2022, after confirming that the HPAI occurred in commercial birds or poultry, APHIS added the Republic of Peru to the list of regions where HPAI exists. On that same day, APHIS issued an import alert notifying stakeholders that APHIS imposed import restrictions on poultry, commercial birds, ratites, avian hatching eggs, unprocessed avian products and byproducts, and certain fresh poultry commodities from the Republic of Peru to mitigate risk of HPAI introduction into the United States.

With the publication of this notice, we are informing the public that we added: The Republic of Ecuador to the list of regions APHIS considers affected with HPAI of any subtype, effective December 3, 2022; and the Republic of Peru to the list of regions APHIS considers affected with HPAI of any subtype, effective December 12, 2022. This notice serves as an official record and public notification of these actions.

Congressional Review Act

Pursuant to the Congressional Review Act (5 U.S.C. 801 et seq.), the Office of Information and Regulatory Affairs designated this action as not a major rule, as defined by 5 U.S.C. 804(2).

Authority: 7 U.S.C. 1633, 7701-7772, 7781-7786, and 8301-8317; 21 U.S.C. 136 and 136a; 31 U.S.C. 9701; 7 CFR 2.22, 2.80, and 371.4.

Done in Washington, DC, this 15th day of August 2023.
Michael Watson,
Acting Administrator, Animal and Plant Health Inspection Service.

[FR Doc. 2023-18073 Filed 8-22-23; 8:45 am]

BILLING CODE 3410-34-P